DEPARTMENT OF THE INTERIOR

National Park Service

Notice of Intent To Prepare an Environmental Impact Statement for the Special Resource Study for the Battle of Homestead and Carrier Furnaces Sites in Western Pennsylvania

AGENCY: National Park Service, Department of the Interior.

ACTION: Notice of intent to prepare an Environmental Impact Statement for the Special Resource Study for the Battle of Homestead and Carrie Furnaces in Western Pennsylvania.

SUMMARY: Under the provisions of the National Environmental Policy Act of 1969, the National Park Service is preparing an environmental impact statement (EIS) for the Special Resource Study for the Battle of Homestead and Carrier Furnaces Sites in Western Pennsylvania. The purpose of a Special Resource Study (SRS) is to determine the degree and kind of federal actions for the management and protection of an area considered to have potential for addition to the National Park System. This is a SRS of the former U.S. Steel Homestead Works including the Battle of Homestead site and adjacent town of Homestead and the related Carrie Furnace area. The study area includes the National Register Historic District in the town of Homestead, the landing site and pump house, the site of Carrier Furnaces number 6 and 7, and the Hot Metal Bridge. Additional sites in the Monongahela Valley will be considered as necessary during the study process. The study will address the significance of the site in the contexts of the history of steel making and labor history in the United States. All of the sites are located within the County of Allegheny in Pennsylvania adjacent to the Monongahela River.

The area is located within the boundaries of the Rivers of Steel National Heritage Area, which was designated by Congress in 1996. The National Park Service (NPS) does not own land or assume a management role in the region. Instead, conservation, interpretation and other activities are managed by partnerships among federal, state, and local governments and private nonprofit organizations. The national heritage area is managed by the Steel Industry Heritage Corporation (SIHC). The National Park Service has been authorized by Congress to provide technical and financial assistance for a limited period (up to 10 years from the time of their designation in 1996) to the SIHC.

The SRS/EIS will address a range of alternatives including potential roles for the NPS in preservation and interpretation of the labor history story associated with the study area. Alternatives to be considered include: no action. (continuation of existing partnerships among the SIHC, NPS and others) the establishment of a National Historic Site, or the establishment of a National Historic Trail, and other acts as may arise during the study process.

In summary, the SRS will present findings on five topics:

• Determination of the national significance of the sites and their resource values;

• Determination of the suitability for the sites to be included within the National Park System in relation to other sites of the same theme;

• Determination of feasibility for the NPS to own, manage or participate in conservation and interpretation in the study area;

• Determination of the need for NPS management of the sites,

• Identification of alternatives for any potential role for the NPS in the future.

The EIS will assess the impacts of the alternatives for NPS participation.

A scoping meeting will be scheduled and notice will be made of the meeting through a broad public mailing and publication in the local newspaper.

FOR FURTHER INFORMATION CONTACT: Peter Samuel, Project Leader, Philadelphia Support Office, National Park Service, US Custom House, 200 Chestnut Street, Philadelphia, PA 19106, peter_samuel@nps.gov, 215-597-1848.

If you correspond using the internet, please include you rename and return address in your e-mail message. Our practice is to make comments, including names and home addresses of respondents, available for public review. Individual respondents may request that we withhold their home address from the record, which we will honor to the extent allowable by law. There also may be circumstances in which we would withhold from the record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: June 7, 2001.
Marie Rust,
Regional Director, Northeast Region.

[FR Doc. 01-25646 Filed 10-11-01; 8:45 am]

BILLING CODE 4310-30-M